DEPARTMENT OF COMMERCE

International Trade Administration

[A-570-835; A-549-812]

Furfuryl Alcohol From the People's Republic of China and Thailand; Final Results of Antidumping Duty Sunset Reviews

AGENCY: Import Administration, International Trade Administration, Department of Commerce.

ACTION: Notice of final results of antidumping duty sunset reviews: Furfuryl Alcohol from the People's Republic of China and Thailand.

SUMMARY: On May 1, 2000, the Department of Commerce (the “Department”) published the notice of initiation of sunset review of the antidumping duty orders on furfuryl from the People's Republic of China (“PRC”) and Thailand (65 FR 25309). On the basis of a notice of intent to participate and adequate substantive response filed on behalf of a domestic interested party, and inadequate response from respondent interested parties, we determined to conduct expedited sunset reviews. Based on our analysis of the comments received, we find that revocation of the antidumping duty orders would likely lead to continuation or recurrence of dumping at the levels listed below in the section entitled “Final Results of Review.”

EFFECTIVE DATE: September 5, 2000.

FOR FURTHER INFORMATION CONTACT: Martha V. Douthit or James P. Maeder, Import Administration, International Trade Administration, U.S. Department of Commerce, Washington, D.C. 20230; telephone: (202) 482-5050 or (202-482-3330).

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department's regulations are to 19 CFR Part 351 (1999). Guidance on methodological or analytical issues relevant to the Department's conduct of sunset reviews is set forth in the Department Policy Bulletin 98:3—Policies Regarding the Conduct of Five-year (“Sunset”) Reviews of Antidumping and Countervailing Duty Orders; Policy Bulletin, 63 FR 18871 (April 16, 1998) (Sunset Policy Bulletin).

Background

On May 1, 2000, the Department initiated sunset reviews of the antidumping duty orders on furfuryl alcohol from the PRC and Thailand (65 FR 25309 ), pursuant to section 751(c) of the Act. On May 16, 2000, the Department received Notices of Intent to Participate, in each sunset review of these orders, on behalf of Penn Specialty Chemicals, Inc. (“Penn”), within the deadline specified in 19 CFR 351.218(d)(i). On May 31, 2000, the Department received substantive responses in each sunset review of these orders, within the 30-day deadline specified in the Sunset Regulations under section 351.218(d)(3)(i), on behalf of Penn. Penn claimed in its substantive response to these sunset reviews that it is a manufacturer of the domestic like product and therefore, is an interested party pursuant to section 771(9)(C) of the Act. Further, in its response to the notice of initiation on furfuryl alcohol from the PRC, Penn asserts that it purchased the furfuryl operation of QO Chemical, Inc., the petitioner in the original investigation. See Penn's, May 31, 2000, Substantive Response at 3.

On June 7, 2000, the Department received a substantive response to the notice of initiation from respondent interested parties from the PRC: Sinochem International Furan Chemicals Co., Ltd., Shangong Zhucheng Chemical Co., Ltd., Shandong Baofeng Chemicals Group Corp., Linzi Organic Chemical Inc., Jilin Sanchun Chemical Plant Co. Ltd., Sinochem Hebei Fuheng Co., Ltd., Shanxi Province Gaoping Chemical Industry Co., Ltd., Qingdao Import and Export Corp., Tieling North and the China Chamber of Commerce of Metals, Minerals, and Chemicals (collectively, “respondent interested parties”).¹

¹ On May 30, 2000, the Department received a request for a one-week extension of the deadline for filing substantive comments on behalf of respondent interested parties, China Chamber of Commerce of Metals, Minerals, and Chemicals. The Department granted the extension for all participants eligible to file substantive comments in this sunset review until June 7, 2000.

On June 6, 2000, China Chamber of Commerce of Metals, Minerals, and Chemicals, submitted a request to the Department to amend their list of entry of appearance. The new list includes: Sinochem International Furan Chemicals Co., Ltd., Shangong Zhucheng Chemical Co., Ltd., Shandong Baofeng Chemicals Group Corp., Linzi Organic Chemical Inc., Jilin Sanchun Chemical Plant Co. Ltd., Sinochem Hebei Fuheng Co., Ltd., Shanxi Province Gaoping Chemical Industry Co., Ltd., Qingdao Import and Export Corp.

On June 6, 2000, the Department received a request for a further extension to file additional information in the substantive response on behalf of respondent interested parties: Sinochem International Furan Chemicals Co., Ltd., Shangong Zhucheng Chemical Co., Ltd., Shandong Baofeng Chemicals Group Corp., Linzi Organic Chemical Inc., Jilin Sanchun Chemical Plant Co. Ltd., Sinochem Hebei Fuheng Co., Ltd., Shanxi Province Gaoping Chemical Industry Co., Ltd., Qingdao Import and Export Corp., and the China Chamber of Commerce of Metals, Minerals, and Chemicals. The Department granted the extension to respondent interested parties to file additional information to their June 7, 2000, substantive response of the sunset review on furfuryl alcohol from the PRC until not later than June 16, 2000. See letter to Bruce Aitken, Attorney, Aitken, Irvin, Lewin, Berlin, Vrooman, & Cohn, LLP., from James P. Maeder, Office of Policy, Import Administration.

On May 19, 2000, the Department received notice of waiver of participation in the sunset review on furfuryl alcohol from Thailand, on behalf of Indo-Rama Chemicals (Thailand) Ltd., pursuant to 351.218(d)(2)(i) of the Department's regulations.

With respect to the antidumping duty order on furfuryl alcohol from the PRC, the respondent interested parties note that, of the eight companies participating in this review, only two companies, Shandong Zhucheng and Linzi Organiz participated in the original antidumping duty investigation. The respondent interested parties note that Qingdao Import & Export is a different company from the Quingdao participated in the investigation, and that Qingdao's furfuryl alcohol division is an independent operation called Qingdao on Billion International. Further, they note that Sinochem Furan was formed two years ago, and includes the assets of the Sinochem Shandong, a company that participated in the original investigation.² Shandong, Hebei, Sanchun, Shanxi, and Linzi are producers and exporters of furfuryl alcohol from the PRC to the United States, and Sinochem Furan, Qingdao, and Teiling are exporters of furfuryl alcohol from the PRC. See Respondent Interested Parties, Supplement to Response, June 16, 2000, at 3. Therefore, the respondent interested parties assert that all these companies qualify as interested parties under section 771(9)(A) of the Act.

² See Respondent Interested Parties, June 16, 2000, Supplement Filing to Response at 11.

On June 21, 2000, the Department notified the Commission that the respondent interested parties did not provide an adequate response in these sunset reviews, pursuant to section 751(c)(3)(B) of the Act, and 19 CFR 351.218(e)(1)(ii)(C)(2). Therefore, because we did not receive adequate responses from respondent interested parties in each of the two cases, we determined to conduct expedited sunset reviews and to issue the final results not later than August 29, 2000, (120 days after the date of publication in the Federal Register of the notice of initiation). We have addressed the interested parties' comments below.

Scope of Reviews

The merchandise covered in these reviews is furfuryl alcohol (C4H3OCH2OH). Furfuryl alcohol is a primary alcohol and is colorless or pale yellow in appearance. It is used in the manufacture of resins and as a wetting agent and solvent for coating resins, nitrocellulose, cellulose acetate, and other soluble dyes. The product subject to these orders are classifiable5 under subheading 2932.13.00 of the Harmonized Tariff Schedule of the United States (“HTSUS”). Although the HTSUS subheading is provided for convenience and customs purposes, our written description of the scope of these orders is dispositive.

Analysis of Comments Received

All issues raised by parties to these sunset reviews are addressed in the “Issues and Decision Memorandum” (“Decision Memo”) from Jeffrey A. May, Director, Office of Policy, Import Administration, to Troy H. Cribb, Assistant Secretary for Import Administration, dated August 29, 2000, which is adopted by this notice. The issues discussed in the Department's Decision Memo include the likelihood of continuation or recurrence of dumping and the magnitude of the margin likely to prevail were the orders revoked. Parties can find a complete discussion of all issues raised in these reviews and the corresponding recommendations in this public memorandum which is on file in room B-099 of the Central Records Unit of the Department's main building.

In addition, a complete version of the Decision Memo can be accessed directly on the Web at http://www.ia.ita.doc.gov under the headings “PRC” and “Thailand.” The paper copy and electronic version of the Decision Memorandum are identical in content.

Final Results of Review

We determine that revocation of the antidumping duty orders on furfuryl alcohol from the PRC and Thailand would be likely to lead to continuation or recurrence of dumping at the following weighted-average percentage margins:

Manufacturer/producer/exporter | Margin (percent)
China:
Quingdao Chemicals & Medicines Import and Export Corporation | 50.43
Sinochem Shandong Import and Export Corporation | 43.54
All Others | 45.27
Thailand:
Indo-Rama Chemicals Ltd. (Thailand)(“IRCT”) | 7.82
All Others | 7.82

This notice also serves as the only reminder to parties subject to administrative protective orders (“APO”) of their responsibility concerning the return or destruction of proprietary information disclosed under APO in accordance with 19 CFR 351.305 or conversion to judicial protective order is hereby requested. Timely notification of the return or destruction of APO materials or conversion to judicial protective order is hereby requested. Failure to comply with the regulations and terms of an APO is a violation which is subject to sanction.

We are issuing and publishing this determination and notice in accordance with sections 751(c), 752, and 777(i) of the Act.

Dated: August 29, 2000.
Troy H. Cribb,
Acting Assistant Secretary for Import Administration.

[FR Doc. 00-22676 Filed 9-1-00; 8:45 am]

BILLING CODE 3510-DS-P